DEPARTMENT OF ENERGY

Office of Science; Biological and Environmental Research Advisory Committee

AGENCY: Department of Energy.

ACTION: Notice of open meeting.

SUMMARY: This notice announces a meeting of the Biological and Environmental Research Advisory Committee. Federal Advisory Committee Act (Pub. L. 92-463, 86 Stat. 770) requires that public notice of these meetings be announced in the Federal Register.

DATES: Thursday, April 29, 2004, 8:30 a.m. to 5 p.m.; and Friday, April 30, 2004, 8:30 a.m. to 12 p.m.

ADDRESSES: Academy for Education Development (AED) Conference Center, 1825 Connecticut Avenue, NW., Washington, DC 20009.

FOR FURTHER INFORMATION CONTACT: Dr. David Thomassen ((301) 903-9817; david.thomassen@science.doe.gov), or Ms. Shirley Derflinger ((301) 903-0044; shirley.derflinger@science.doe.gov), Designated Federal Officers, Biological and Environmental Research Advisory Committee, U.S. Department of Energy, Office of Science, Office of Biological and Environmental Research, SC-70/Germantown Building, 1000 Independence Avenue, SW., Washington, DC 20585-1290. The most current information concerning this meeting can be found on the Web site: http://www.science.doe.gov/ober/berac/announce.html

SUPPLEMENTARY INFORMATION: Purpose of the Meeting: To provide advice on a continuing basis to the Director, Office of Science of the Department of Energy, on the many complex scientific and technical issues that arise in the development and implementation of the Biological and Environmental Research Program.

Tentative Agenda:

Thursday, April 29, and Friday, April 30, 2004:

• Conflict of Interest and Federal Advisory Committee Act requirements and overview

• Comments from Dr. Raymond Orbach, Director, Office of Science

• Report by Dr. Ari Patrinos, Associate Director of Science for Biological and Environmental Research

• Discussion of BERAC reports on (1) need for additional sites for environmental remediation sciences research (2) review of the scientific basis for a proposed subsurface geosciences laboratory at the Idaho National Engineering and Environmental Laboratory, (3) guidance to BER on how the Atmospheric Science Program should be reconfigured, (4) a Committee of Visitors review of the Climate Change Research Division's program management, and (5) radiochemistry program needs and opportunities.

• BERAC recommendations for BER to develop a roadmap for achieving and tracking its long term performance measures

• Status report on the development of a Genomics:GTL roadmap

• Coordination of common DOE and NIH research interests

• Discussion to define operating hours at BER facilities

• Science talk

• New Business

• Public comment (10 minute rule)

Public Participation: The day and a half meeting is open to the public. If you would like to file a written statement with the Committee, you may do so either before or after the meeting. If you would like to make oral statements regarding any of the items on the agenda, you should contact David Thomassen or Shirley Derflinger at the address or telephone numbers listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room, IE-190, Forrestal Building, 1000 Independence Avenue, SW., Washington, DC, between 9 a.m. and 4 p.m., Monday through Friday, except Federal holidays.

Issued in Washington, DC on March 29, 2004.
Rachel M. Samuel,
Deputy Advisory Committee, Management Officer.

[FR Doc. 04-7485 Filed 4-1-04; 8:45 am]

BILLING CODE 6450-01-P